NATIONAL SCIENCE FOUNDATION

Sunshine Act Meetings; National Science Board

The National Science Board's Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Wednesday, September 3, 2014, 12:00-1:00 p.m., EDT.

SUBJECT MATTER: SCF chair's remarks, including approval of minutes of August 13 SCF meeting. SCF members will discuss facility synopses and the 2014 Annual Portfolio Review of facilities.

STATUS: Open.

This meeting will be held by teleconference. A public listening line will be available. Members of the public must contact the Board Office (call 703-292-7000 or send an email message to nationalsciencebrd@nsf.gov) at least 24 hours prior to the teleconference for the public listening number. Please refer to the National Science Board Web site www.nsf.gov/nsb for additional information and schedule updates (time, place, subject matter or status of meeting) which may be found at http://www.nsf.gov/nsb/notices/. Point of contact for this meeting is John Veysey at jveysey@nsf.gov.

Ann Bushmiller,
Senior Counsel to the National Science Board.

[FR Doc. 2014-20777 Filed 8-27-14; 4:15 pm]

BILLING CODE 7555-01-P